DEPARTMENT OF THE INTERIOR

Bureau of Land Management

[IDI-32319]

Public Land Order No. 7864; Extension of Public Land Order No. 7306; Howell Canyon Recreation Complex; Idaho

AGENCY: Bureau of Land Management, Interior.

ACTION: Public Land Order.

SUMMARY: This order extends the duration of the withdrawal created by Public Land Order No. 7306 for an additional 20-year period. This extension is necessary to continue the protection of the 3,805.87 acre Howell Canyon Recreation Complex located in Cassia County, Idaho.

DATES: This order is effective on January 2, 2018.

FOR FURTHER INFORMATION CONTACT: Jeff Cartwright, BLM Idaho State Office 208-373-3885. Persons who use a telecommunications device for the deaf (TDD) may call the Federal Relay Service (FRS) at 1-800-877-8339 to reach the Bureau of Land Management contact during normal business hours. The FRS is available 24 hours a day, 7 days a week, to leave a message or question with the above individual. You will receive a reply during normal business hours.

SUPPLEMENTARY INFORMATION: PLO No. 7306 (63 FR 109 (1998)) withdrew 3,805.87 acres of National Forest System lands in the Sawtooth National Forest, Cassia County, Idaho, from location and entry under the United States mining laws, but not from the general land laws or leasing under the mineral leasing laws. The withdrawal was originally authorized to protect the investments made by the United States Forest Service and its permittees on the Howell Canyon Recreation Complex, and to preserve a Research Natural Area.

Order

By virtue of the authority vested in the Secretary of the Interior by Section 204 of the Federal Land Policy and Management Act of 1976, 43 U.S.C. 1714, it is ordered as follows:

1. Subject to valid existing rights, PLO No. 7306, which withdrew 3,805.87 acres of National Forest System lands from the United States mining laws, but not from the general land laws or leasing under the mineral leasing laws, is hereby extended for an additional 20-year period.

2. The withdrawal extended by this order will expire on January 1, 2038, unless, as a result of review conducted before the expiration date pursuant to Section 204(f) of the Federal Land Policy and Management Act of 1976, 43 U.S.C. 1714 (f), the Secretary determines that the withdrawal shall be further extended.

Dated: December 12, 2017.
David L. Bernhardt,
Deputy Secretary.

[FR Doc. 2017-27511 Filed 12-20-17; 8:45 am]

BILLING CODE 3410-11-P